DEPARTMENT OF AGRICULTURE

Forest Service

Klamath National Forest, CA, Klamath National Forest Motorized Route Designation EIS

AGENCY: Forest Service, USDA.

ACTION: Notice of Intent to prepare an Environmental Impact Statement.

SUMMARY: The Klamath National Forest (Klamath NF) will prepare an Environmental Impact Statement to disclose the impacts associated with the following proposed actions:

1. The prohibition of cross-country motorized vehicle travel (with the exception of snowmobiles) off designated National Forest System (NFS) roads, trails, and areas by the public except as allowed by permit or other authorization (Travel Management Rule, 36 CFR Part 212 Subpart B).

2. Make a non-significant amendment to the Klamath NF Land and Resource Management Plan (Klamath Forest Plan) to conform with the Travel Management Rule, Subpart B, by removing reference to OHV cross-country travel in the Forest Plan and including a Forest-wide standard: “Prohibit motorized vehicle travel (with the exception of snowmobiles) off designated roads, trails and areas except as allowed by permit or other authorization.”

3. Add approximately 54 miles (84 segments) of existing unauthorized routes to the National Forest Transportation System (NFTS) as roads open to the public for motorized vehicle use by vehicle class and season of use. Add approximately 24 miles (258 routes) of existing unauthorized routes to the NFTS as roads open to the public for motorized vehicle use to access dispersed recreation opportunities (e.g. river access, dispersed camping, etc.), by vehicle class and season of use.

4. Add approximately 14 miles (22 segments) of existing unauthorized routes to the NFTS as motorized trails open to the public for motorized vehicle use by vehicle class and season of use.

5. Allow motorized vehicle use on two areas (65 acres) where use of motorized vehicles by the public would be allowed anywhere within that delineated area.

6. Make the following changes to existing Forest roads:

a. Allow non-highway legal vehicle use on approximately 88 miles (24 segments) of existing NFTS roads where such use is currently prohibited.

b. Prohibit non-highway legal vehicle use on approximately 10 miles (8 segments) of existing NFTS roads where such use is currently allowed.

c. Open NFTS roads 41S10 and 40N51 to public use where such use is currently prohibited to enhance motorized recreation by creating a loop opportunity.

DATES: The comment period on the proposed action will extend 30 days from the date the Notice of Intent is published in the Federal Register.

Completion of the Draft Environmental Impact Statement (DEIS) is expected in May 2009 and the Final Environmental Impact Statement (FEIS) is expected in July 2009.

ADDRESSES: Send written comments to: Route Designation Team, Klamath National Forest, 1312 Fairlane Road, Yreka, California 96097. Electronic comments, in acceptable plain text (.txt), rich text (.rtf), or Word (.doc) may be submitted to comments-pacificsouthwest-klamath@fs.fed.us with Subject: Route Designation.

FOR FURTHER INFORMATION CONTACT: Emelia Barnum, Klamath National Forest, 1312 Fairlane Road, Yreka, California 96097. Phone: 530-841-4470.

SUPPLEMENTARY INFORMATION:

Background

Over the past few decades, the availability and capability of motorized vehicles, particularly off-highway vehicles (OHVs) and sport utility vehicles (SUVs) has increased tremendously. Nationally, the number of OHV users has climbed sevenfold in the past 30 years, from approximately 5 million in 1972 to 36 million in 2000. The ten states with the largest population also have the most OHV users. California has 4.35 million OHV users accounting for almost 11 percent of the U.S. total (Off-Highway Vehicle Recreation in the United States, Regions and States: A National Report from the National Survey on Recreation and the Environment (NSRE) Cordell, Betz, Green and Owens June 2005). There were 786,914 all terrain vehicles (ATVs) and OHV motorcycles registered in 2004, up 330 percent since 1980. Annual sales of ATVs and OHV motorcycles in California were the highest in the U.S. for the last 5 years. Four-wheel drive vehicle sales in California also increased by 1500 percent to 3,046,866 from 1989 to 2002.

Unmanaged OHV use has resulted in unplanned roads and trails, erosion, watershed and habitat degradation, and impacts to cultural resource sites. Compaction and erosion are the primary effects of OHV use on soils. Riparian areas and aquatic dependent species are particularly vulnerable to OHV use. Unmanaged recreation, including impacts from OHVs, is one of “Four Key Threats Facing the Nation's Forests and Grasslands.” (USDA Forest Service, June 2004).

On August 11, 2003, the Pacific Southwest Region of the Forest Service entered into a Memorandum of Intent (MOI) with the California Off-Highway Motor Vehicle Recreation Commission, and the Off-Highway Motor Vehicle Recreation Division of the California Department of Parks and Recreation. That MOI set in motion a region-wide effort to “Designate OHV roads, trails, and any specifically defined open areas for motorized wheeled vehicles on maps of the 19 National Forests in California by 2007.” On November 9, 2005, the Forest Service published final travel management regulations in the Federal Register (FR Vol. 70, No. 216—Nov. 9, 2005, pp. 68264-68291). Subpart B of the final Travel Management Rule requires designation of those roads, trails, and areas that are open to motor vehicle use on National Forests. Route designations will be made by class of vehicle and, if appropriate, by time of year. The final rule allows for motor vehicle use only on designated system routes and in designated areas.

On some NFS lands, long managed as open to cross-country motor vehicle travel, repeated use has resulted in unplanned, unauthorized, roads and trails. These routes generally developed without environmental analysis or public involvement, and do not have the same status as NFS roads and NFS trails included in the forest transportation system. Nevertheless, some unauthorized routes are well-sited, provide excellent opportunities for outdoor recreation by motorized and non-motorized users, and would enhance the National Forest system of designated roads, trails and areas. Other unauthorized routes are poorly located and cause unacceptable impacts. Only NFS roads and NFS trails can be designated for wheeled motorized vehicle use. In order for an unauthorized route to be designated, it must first be added to the NFTS.

In accordance with the MOI, the Klamath NF completed an inventory of unauthorized routes on National Forest lands and identified approximately 400 miles (1079 segments) of unauthorized routes. The Klamath NF then used an interdisciplinary process to evaluate the routes that included working with the public to determine whether any of the unauthorized routes should be proposed for addition to the NFTS in this proposed action. Roads, trails, and areas that are currently part of the Klamath NF transportation system and are open to wheeled motorized vehicle travel will remain designated for such unless changed by this proposal. This proposal focuses only on the prohibition of wheeled motorized vehicle travel off designated routes and needed changes to the Klamath NF transportation system, including the addition of some unauthorized routes to the Klamath NF transportation system and minor changes to existing motor vehicle restrictions. The proposed action is being carried forward in accordance with the Travel Management Rule (36 CFR Part 212, Subpart B). In accordance with the Travel Management Rule, following a decision on this proposal, the Klamath NF will publish a Motor Vehicle Use Map (MVUM) identifying all Klamath NF roads, trails, and areas that are designated for motor vehicle use. The MVUM shall specify the classes of vehicles and, if appropriate, the times of year for which use is designated.

Unauthorized routes not included in this proposal are not precluded from future consideration for addition to the NFTS and inclusion in a MVUM. Future decisions associated with changes to the MVUM may trigger the need for documentation of environmental analysis.

Purpose and Need for Action

The following needs have been identified for this proposal:

1. There is a need for regulation of unmanaged motor vehicle travel by the public. The proliferation of unplanned, unauthorized, non-sustainable roads, trails and areas adversely impacts the environment. The 2005 Travel Management Rule, 36 CFR Section 212, Subpart B, provides for a system of NFS roads, NFS trails and areas on NFS lands that are designated for motor vehicle use. After roads, trails and areas are designated, motor vehicle use off designated roads and trails and outside designated areas is prohibited by 36 CFR 261.13. Subpart B is intended to prevent resource damage caused by unmanaged motor vehicle use by the public.

2. There is a need for the Klamath Forest Plan to conform to the Travel Management Rule, 36 CFR 212, Subpart B. A review of the Forest Plan has found that it is not fully consistent with the Travel Management Rule, Subpart B. For example, the Klamath Forest Plan EIS states that off highway vehicle use is allowed where it is not (1) Legislatively restricted, (2) causing unacceptable resource damage, or (3) in conflict with other activities. The objective is to restrict use only where there is a demonstrated need. The Klamath Forest Plan includes standards and guidelines that prohibit or restrict OHV use in certain land allocations (e.g., research natural areas, backcountry areas), but OHV use is generally allowed in the other land allocations. About 70 percent of the Forest is open to unrestricted OHV use. These Forest Plan standards and guidelines are in conflict with the Travel Management Rule, at 36 CFR 212.50(a) (Motor vehicle use off designated roads and trails and outside designated areas is prohibited by 36 CFR 261.13).

3. There is a need for limited changes to the Klamath NF transportation system to:

3.1. Provide wheeled motorized access to dispersed recreation opportunities (camping, hunting, fishing, hiking, horseback riding, etc.). There is a need to maintain motor vehicle access to dispersed recreation activities that historically have been accessed by motor vehicles. A portion of known dispersed recreation activities are not located directly adjacent to an existing NFTS road or NFTS motorized trail. Some dispersed recreation activities depend on foot or horseback access, and some depend on motor vehicle access. Those activities accessed by motor vehicles consist of short spurs that have been created and maintained primarily by the passage of motorized vehicles. Many such `user-created' routes are not currently part of the NFTS. Without adding them to the NFTS, the regulatory changes noted above would make continued use of such routes illegal through the prohibition of cross country travel and would preclude access to many dispersed recreation activities.

3.2. Provide a diversity of wheeled motorized recreation opportunities (4x4 vehicles, motorcycles, ATVs, passenger vehicles, etc.). It is Forest Service policy to provide a diversity of road and trail opportunities for experiencing a variety of environments and modes of travel consistent with the National Forest recreation role and land capability (FSM 2353.03(2)). Implementation of Subpart B of the Travel Management Rule will severely reduce motorized recreation opportunities relative to current levels. As a result, there is a need to consider limited changes and additions to the type of use permitted on existing NFTS roads as well as potential additions to the NFTS.

4. There is a need for socially compatible non-highway legal vehicle use in the vicinity of Hawkinsville where trespass, destruction of private property, and other use conflicts facilitated by the use of off-highway vehicles have become a problem. The Forest Plan specifies coordination of road management objectives with private landowners within the Forest (Forest Plan Standard and Guideline 20-3). Previous complaints from residential owners and comments during the Steps 1-3 for this project focused on needs for management changes on all or portions of 40N21, 43N30, 45N03X, 45N28, 45N29, 45N39, 46N16, and 46N16A.

In meeting these needs, the proposed action must also achieve the following purposes:

A. Provide for public safety.

B. Provide access to public and private lands.

C. Administer and maintain roads, trails, and areas based on availability of resources.

D. Minimize damage to soil, vegetation and other forest resources.

E. Avoid impacts to cultural resources.

F. Minimize harassment of wildlife and significant disruption of wildlife habitat.

G. Minimize conflicts between motor vehicles and existing or proposed recreational uses of NFS lands.

H. Minimize conflicts among different classes of motor vehicle uses of NFS lands or neighboring federal lands.

I. Assure compatibility of motor vehicle use with existing conditions in populated areas, taking into account sound, emissions, etc.

J. Maintain valid existing rights of use and access (rights-of-way).

K. Constrain the proposal to that which is within the capability of the Forest to analyze given: 1. The national schedule for regions to publish their Forest Motor Vehicle Use Maps. For the Klamath National Forest the publication deadline is approximately September 2009. 2. Available funding (road and trail management budgets). 3. Available resources (resource data and staff time).

Proposed Action

1. Prohibit cross-country motorized vehicle travel (with the exception of snowmobiles) off designated Forest roads, trails, and areas by the public except as allowed by permit or other authorization.

2. Make a non-significant amendment to the Klamath Forest Plan to be consistent with the Travel Management Rule (36 CFR Part 212, Subpart B), prohibiting cross-country motorized vehicle travel off designated NFS roads and NFS trails outside of designated areas by removing reference to OHV cross-country travel in the Forest Plan and including a forest-wide standard: “Prohibit wheeled vehicle travel off designated roads and trails except for administrative use or uses under permitted activities or within designated areas.”

3. Add approximately 54 miles (84 routes) of existing unauthorized routes as NFTS roads classified as open to all vehicle classes, both highway legal and non-highway legal, by season of use. The season of use for approximately 8 miles (14 routes) of road is from May 1-October 31 (the remainder will be open year round). Add approximately 24 miles (258 routes) of existing unauthorized routes to the NFTS as roads open to the public for wheeled motorized vehicle use to access dispersed recreation opportunities (e.g., river access, dispersed camping, etc.), by vehicle class and season of use. With these additions, roads open to all vehicle classes will be approximately 2618 miles.

4. Add approximately 14 miles (22 routes) of existing unauthorized routes as NFTS motorized trails. This would bring the total NFTS motorized trails to 15 miles. Approximately 2 miles of motorized trails would be classified as open for “All Trail Class Vehicles”. About 4 miles of motorized trails would be classified as open for “Motorcycle only”. The remaining 8 miles of motorized trails would be classified as open for “Vehicles 50 inches or less in width”. The season of use for all 14 miles of trail is from May 1-October 31.

5. Add two areas (Humbug [13 acres] and Juniper Flat [52 acres]) where use of motorized vehicles by the public would be allowed anywhere within that delineated area.

6. Make the following changes to existing Forest roads:

a. Allow non-highway legal vehicle use on approximately 88 miles (24 segments) of existing NFS roads where such use is currently prohibited.

b. Prohibit non-highway legal vehicle use on approximately 10 miles (8 segments) of existing Forest roads where such use is currently allowed.

c. Open Forest Maintenance Level 1 roads 41S10 (Doe Peak) and 40N51 (Yellowjacket Ridge) to public use where such use is currently prohibited.

Maps and tables describing the proposed action can be found at http://www.fs.fed.us/r5/klamath/projects/ohv/index.shtml. In addition, maps will be available for viewing at:

• Klamath National Forest Supervisor's Office, 1312 Fairlane Road, Yreka, CA 96097.

• Happy Camp/Oak Knoll Ranger District, 63822 Highway 96, Happy Camp, CA 96039.

• Goosenest Ranger District, 37805 Highway 97, Macdoel, CA 96058.

• Salmon/Scott River Ranger District, 11263 N. Highway 3, Fort Jones, CA 96032.

• Ukonom Ranger District, Highway 96, Orleans, CA 95556.

Responsible Official

Patricia A. Grantham, Forest Supervisor, Klamath National Forest, 1312 Fairlane Road, Yreka, CA 96097.

Nature of Decision To Be Made

The responsible official will decide whether to adopt and implement the proposed action, an alternative to the proposed action, or take no action to make changes to existing prohibitions and allowances for public motorized vehicle travel within the existing Klamath NF Transportation System and prohibit cross country wheeled motorized vehicle travel by the public off the designated system. Once the decision is made, the Klamath NF will publish a MVUM identifying the roads, trails and areas that are designated for motor vehicle use. The MVUM shall specify the classes of vehicles and, if appropriate, the times of year for which use is designated. Future decisions associated with changes to the MVUM may trigger the need for documentation of environmental analysis.

This proposal does not revisit previous administrative decisions that resulted in the current NFTS. This proposal is focused on implementing Subpart B of the Travel Management Rule. Previous administrative decisions concerning road construction, road reconstruction, trail construction, and land suitability for motorized use on the existing NFTS are outside of the scope of this proposal.

Scoping Process

Public participation will be especially important at several points during the analysis. The Forest Service will be seeking information, comments, and assistance from federal, state, and local agencies and other individuals or organizations who may be interested in or affected by the proposed action.

The Klamath NF has been meeting with local elected officials, Tribes, and community groups, including service and professional organizations, to discuss the Travel Management Rule and travel management on the Forest since 2005. In March and April of 2005, and April and May 2007, public workshops were held in Fort Jones, Happy Camp, Macdoel, and Yreka, CA to gather information about which routes the public uses. In March 2008, public workshops were held in those same locations as well as Orleans, CA, to continue gathering information about which routes the public uses and to identify routes missed in the inventory of unauthorized routes. Additionally, maps of inventoried routes were available on the Forest's Web site and Forest Service offices. The public used these maps to provide input into the process.

The comment period on the proposed action will extend 30 days from the date this Notice of Intent is published in the Federal Register.

The draft environmental impact statement is expected to be filed with the Environmental Protection Agency (EPA) and to be available for public review by May 2009. EPA will publish a notice of availability of the draft EIS in the Federal Register. The comment period on the draft EIS will extend 45-days from the date the EPA notice appears in the Federal Register. At that time, copies of the draft EIS will be distributed to interested and affected agencies, organizations, and members of the public for their review and comment. It is very important that those interested in the management of the Klamath NF participate at that time.

The final EIS is scheduled to be completed in July 2009. In the final EIS, the Forest Service will respond to comments received during the comment period that are: within the scope of the proposed action; specific to the proposed action; have a direct relationship with the proposed action; and include supporting reasons for the responsible official to consider. Submission of comments to the draft EIS is a prerequisite for eligibility to appeal under the 36 CFR part 215 regulations.

Comment Requested

This Notice of Intent initiates the scoping process which guides the development of the environmental impact statement.

Early Notice of Importance of Public Participation in Subsequent Environmental Review: A draft EIS will be prepared for comment. The comment period on the draft EIS will be 45 days from the date the EPA publishes the notice of availability in the Federal Register.

At this early stage, it is important to give reviewers notice of several court rulings related to public participation in the environmental review process. First, reviewers of draft EISs must structure their participation in the environmental review of the proposal so that it is meaningful and alerts an agency to the reviewer's position and contentions. Vermont Yankee Nuclear Power Corp. v. NRDC, 435 U.S. 519, 553 (1978). Also, environmental objections that could be raised at the draft EIS stage but that are not raised until after completion of the final EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that comments and objections are made available to the Forest Service at a time when it can meaningfully consider them and respond to them in the final EIS.

To assist the Forest Service in identifying and considering issues and concerns on the proposed action, comments on the draft EIS should be as specific as possible. It is also helpful if comments refer to specific pages or chapters of the draft EIS. Comments may also address the adequacy of the draft EIS or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, Section 21.

Dated: September 30, 2008.
Patricia A. Grantham,
Forest Supervisor.

[FR Doc. E8-23683 Filed 10-6-08; 8:45 am]

BILLING CODE 3410-11-P